DEPARTMENT OF THE INTERIOR

National Park Service

[NPS-IMR-GRTE-19244; PX. PD202594I.00.1]

Moose-Wilson Corridor Comprehensive Management Plan, Draft Environmental Impact Statement, Grand Teton National Park, Wyoming

AGENCY: National Park Service, Interior.

ACTION: Notice of availability.

SUMMARY: The National Park Service announces the availability of the Draft Environmental Impact Statement for the Moose-Wilson Corridor Comprehensive Management Plan, Grand Teton National Park, Wyoming. The Draft Environmental Impact Statement analyzes four alternatives for future management of the corridor. Alternative C has been identified as the NPS preferred alternative.

DATES: The National Park Service will accept comments from the public through January 15, 2016. In addition, a public meeting will be conducted in the Jackson, Wyoming, area in the fall of 2015. Please check local newspapers and the Web site below for additional information.

ADDRESSES: Information will be available for public review and comment online at http://parkplanning.nps.gov/MooseWilson, at the Grand Teton National Park Headquarters Building, 1 Teton Park Road, Moose, Wyoming, and at the Reference Desk of the Teton County Library, 125 Virginian Lane, Jackson, Wyoming.

FOR FURTHER INFORMATION CONTACT: David Vela, Superintendent, Grand Teton National Park, P.O. Drawer 170, Moose, Wyoming 83012-0170, (307) 739-3411, GRTE_Superintendent@nps.gov, or Daniel Noon, Chief of Planning and Environmental Compliance, P.O. Drawer 170, Moose, Wyoming 83012-0170, (307) 739-3465, Daniel_Noon@nps.gov.

SUPPLEMENTARY INFORMATION: In recent years, the Moose-Wilson corridor in Grand Teton National Park has experienced changes in ecological conditions, development patterns, and use by visitors and local residents. As a result, the National Park Service is conducting a comprehensive planning and environmental impact process to determine how best to protect park resources and values while providing appropriate opportunities for visitor use, experience, and enjoyment of the corridor. The draft plan: (1) Identifies management strategies to address natural and cultural resource protection; (2) proposes management strategies to address visitor safety concerns and conflicts with wildlife; (3) addresses vehicle/bicycle management related to road use, trailhead parking areas and pullouts; (4) identifies management strategies related to the operation of facilities within the corridor; (5) considers if a multi-use pathway should be provided along Moose-Wilson Road; and (6) examines specific road realignment and paving options for the Moose-Wilson and Death Canyon Roads. Four management alternatives, Alternatives A through D, are analyzed in the Draft Environmental Impact Statement. Alternative A, the no-action alternative, would continue current management practices related to resources, visitor use, park operations, and maintenance of facilities within the Moose-Wilson corridor. Alternative B emphasizes managing the corridor as a visitor destination. Reduced crowding on Moose-Wilson Road and at destinations within the corridor would provide visitors an opportunity for self-discovery. Existing developed areas and facilities would be maintained where appropriate and removed or relocated in some areas to protect natural and cultural resources. Alternative C, the NPS preferred alternative, emphasizes the conservation legacy stories within the corridor. The intensity and timing of visitor use would be managed to effectively provide high quality visitor opportunities by reducing high traffic volumes and congestion. Development within the corridor would generally be maintained within the existing development footprint. Alternative D would enhance recreational opportunities with additional amenities. This alternative would integrate the Moose-Wilson corridor with the region's larger recreational network, and would enhance the recreational scenic driving experience by reducing high traffic volumes and congestion.

You are encouraged to comment on the draft plan via the Internet at http://parkplanning.nps.gov/MooseWilson. You may also mail comments to the Superintendent's Office, Attention: Moose-Wilson EIS, P.O. Drawer 170, Moose, Wyoming 83012-0170. You may also hand-deliver comments to the Grand Teton National Park Headquarters at Moose, Wyoming.

Before including your address, phone number, email address, or other personal identifying information in your comment, you should be aware that your entire comment—including your personal identifying information—may be made publicly available at any time. While you can ask us in your comment to withhold your personal identifying information from public review, we cannot guarantee that we will be able to do so.

Dated: October 22, 2015.
Sue E. Masica,
Regional Director, Intermountain Region, National Park Service.

[FR Doc. 2015-28016 Filed 11-13-15; 8:45 am]

BILLING CODE 4312-CB-P